DEPARTMENT OF ENERGY

Federal Energy Regulatory Commission

[Docket No. CP00-36-002]

Guardian Pipeline, L.L.C.; Notice of Amendment

July 19, 2001.

Take notice that on July 13, 2001, Guardian Pipeline, L.L.C. (Guardian), 330 Town Center Drive, Suite 900, Dearborn, Michigan 48126-2712, filed in Docket No. CP00-36-002, an amendment pursuant to Section 7(c) of the Natural Gas Act to its certificate of public convenience and necessity issued by the Commission in this proceeding on March 14, 2001, filed in Docket No. CP01-36-000. With this amendment, Guardian is requesting authority that the Commission vacate the portion of the certificate authorizing construction of the Guardian Eagle Lateral pipeline, an 8.5 mile, 16-inch diameter lateral, located in Walworth and Waukesha Counties, Wisconsin and permit Guardian to modify the location of certain metering and related facilities, all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

Guardian states that it is requesting that the Commission vacate the portion of the certificate authorizing construction of the Guardian Eagle Lateral, because subsequent to the Commission's issuance of the certificate order, Northern Natural Gas Company (Northern) and Wisconsin Gas Company (Wisconsin Gas) have entered into an agreement by which Northern will sell to Wisconsin Gas an existing 9 mile, 24-inch diameter pipeline, the East Leg facilities (CP01-401-000) that generally runs parallel to Guardian's Eagle Lateral.

Guardian states that if Northern's abandonment by sale to Wisconsin Gas of the East Leg facilities is approved, Guardian will be able to deliver gas directly into Wisconsin Gas' facilities from the Guardian mainline to access the same markets that would have been accessed through the Guardian Eagle Lateral. Guardian declares that then they will not need to construct the Eagle Lateral. Guardian also states that by not needing to build the Eagle Lateral, it will reduce landowner and environmental impacts. Guardian also requests that its certificate be amended to permit Guardian to modify the location of their metering and related facilities that originally were proposed to be located at Eagle, Wisconsin to the Bluff Creek Meter Station, so that both Guardian and Northern will be able to deliver gas into the Wisconsin Gas Hinshaw system through a single Wisconsin Gas-owned line.

Guardian states that they would retain the capacity to deliver up to 300,000 Dth/day into the Wisconsin Gas system, the same capacity as Guardian's certificated Eagle meter station. Guardian states that the total project cost will not be affected by this change, as Guardian's estimated project cost remains $224.3 million, excluding allowance for funds used during construction.

Any questions regarding this amendment should be directed to Molly Mulroy, Guardian Pipeline, L.L.C., P.O. Box 544, Milwaukee, Wisconsin 53201, or at (1-800) 782-7182.

There are two ways to become involved in the Commission's review of this project. First, any person wishing to obtain legal status by becoming a party to the proceedings for this project should, on or before August 9, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-18483 Filed 7-24-01; 8:45 am]

BILLING CODE 6717-01-P